DEPARTMENT OF ENERGY

Federal Energy Regulatory Commission

Sunshine Act Meeting; Notice

December 14, 2006.

The following notice of meeting is published pursuant to section 3(a) of the government in the Sunshine Act (Pub. L. 94-409), 5 U.S.C 552b:

AGENCY HOLDING MEETING: Federal Energy Regulatory Commission.

DATE AND TIME: December 21, 2006; 10 A.M.

PLACE: Room 2C, 888 First Street, NE., Washington, DC 20426.

STATUS: Open.

MATTERS TO BE CONSIDERED: Agenda.

* Note.—Items listed on the agenda may be deleted without further notice.

CONTACT PERSON FOR MORE INFORMATION: Magalie R. Salas, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

911th—Meeting
[Regular Meeting December 21, 2006; 10 a.m.]
Item No. | Docket No. | Company
Administrative Agenda
A-1 | AD02-1-000 | Agency Administrative Matters.
A-2 | AD02-7-000 | Customer Matters, Reliability, Security and Market Operations.
A-3 | AD06-3-000 | Energy Market Update.
Electric
E-1 | RM06-4-001 | Promoting Transmission Investment through Pricing Reform.
E-2 | EC06-160-000 | Duquesne Light Holdings, Inc., Duquesne Light Company, Duquesne Power, LLC, Duquesne Keystone, LLC, Duquesne Conemaugh, LLC, Monmouth Energy, Inc., DQE Holdings, LLC, DQE Merger Sub, Inc., DUET Investment Holdings Limited, GIF2-MFIT United Pty Limited, Industry Funds Management (Nominees) Limited, as trustee of the IFM (International Infrastructure) Wholesale Trust, CLH Holdings, GP.
E-3 | ER05-1410-001, EL05-148-001, ER05-1410-000, EL05-148-000 | PJM Interconnection, L.L.C.
E-4, | EC05-1-000, EC05-1-001 | Old Dominion Electric Cooperative.
|  | New Dominion Energy Cooperative
E-5 | EL06-105-000 | NorthWestern Corporation.
E-6 | ER06-1552-000 | Midwest Independent Transmission System Operator, Inc.
E-7 | ER07-99-000 | New York Independent System Operator, Inc.
E-8 | ER06-1517-000, EL07-14-000, ER06-1518-000 | Wisconsin Power & Light Co.
|  | Wisconsin Public Power Inc., Municipal Wholesale Power Group, and Great Lakes Utilities v. Wisconsin Power & Light Co.
E-9 | ER07-106-000 | Midwest Independent Transmission System Operator, Inc. and Ameren Services Company.
E-10 | ER07-95-000 | Michigan Electric Transmission Company, LLC and Midwest Independent Transmission System Operator, Inc.
E-11 | ER07-166-000 | Public Service Company of New Mexico and Texas-New Mexico Power Company.
E-12 | ER07-108-000 | ISO New England Inc.
E-13 | ER07-116-000 | ISO New England Inc.
E-14 | ER07-93-000 | Entergy Services, Inc.
E-15 | ER07-169-000 | Ameren Energy Marketing Company.
| ER07-170-000 | Ameren Energy, Inc.
E-16 | ER07-173-000 | Tampa Electric Company.
E-17 | ER07-205-000 | Ameren Energy Marketing, Central Illinois Light Company, Central Illinois Public Service Company, Illinois Power Company, Union Electric Company.
E-18 | EC06-152-000 | WPS Resources Corp. and Peoples Energy Corp.
E-19 | ER06-919-000, ER06-919-001 | Southern Company Services, Inc.
E-20 | OMITTED
E-21 | ER05-406-002 | Williams Power Company, Inc.
E-22 | EL07-7-000, QF89-251-009 | Las Vegas Cogeneration Limited Partnership.
E-23 | EL06-90-000 | PPL EnergyPlus, LLC, PPL Martins Creek, LLC, PPL Susquehanna, LLC, PPL Montour, LLC, PPL Brunner Island, LLC, PPL Holtwood, LLC, PPL University Park, LLC, Lower Mount Bethel Energy, LLC v. PJM Interconnection, L.L.C.
E-24 | ER04-835-000 | California Independent System Operator Corporation.
| EL04-103-000 | Pacific Gas and Electric Company v. California Independent System Operator Corporation.
E-25 | OMITTED
E-26 | OMITTED
E-27 | ER06-1065-001 | Northeast Utilities Service Company.
E-28 | ER06-731-003 | Midwest Independent Transmission System Operator, Inc.
E-29 | ER07-114-000, ER05-516-000, ER05-516-001, ER05-911-000, ER05-1264-000, ER05-95-000, ER06-948-000, ER06-1306-000. | Pacific Gas & Electric Company.
E-30 | RM07-2-000 | Accounting and Reporting Requirements for Nonoperating Public Utilities and Licensees.
E-31 | ER00-2268-017, EL05-10-008 | Pinnacle West Capital Corporation.
| ER99-4124-014, EL05-11-007 | Arizona Public Service Company.
| ER00-3312-015, EL05-12-007 | Pinnacle West Energy Corporation.
| ER99-4122-017, EL05-13-007 | APS Energy Services Company, Inc.
Miscellaneous
M-1 | AD07-4-000 | Process for Assessing Civil Penalties.
Gas
G-1 | RP07-34-000 | Panhandle Complainants v. Southwest Gas Storage Company.
G-2 | RP06-407-000, RP06-407-002 | Gas Transmission Northwest Corporation.
G-3 | OMITTED
Hydro
H-1 | P-7019-063 | Eastern Hydroelectric Corporation.
H-2 | P-2686-051, P-2698-045, P-2602-012 | Duke Power, a division of Duke Energy Corporation.
H-3 | P-2503-107 | Duke Power Company, LLC.
H-4 | P-516-435 | South Carolina Electric & Gas Company.
H-5 | P-459-166 | AmerenUE.
H-6 | EL06-91-000, P-12252-023 | Fourth Branch Associates (Mechanicsville) v. Hudson River—Black River Regulating District.
Certificates
C-1 | CP98-150-006, CP98-150-007, CP98-150-008 | Millennium Pipeline Company, L.L.C.
| CP98-151-003, CP98-151-004 | Columbia Gas Transmission Corporation.
| CP05-19-000 | Columbia Gas Transmission Corporation.
| CP06-5-000, CP06-5-000, CP06-5-002, CP06-6-000, CP06-6-002, CP06-7-000, CP06-7-002 | Empire State Pipeline and Empire Pipeline, Inc.
| CP06-76-000 | Algonquin Gas Transmission, LLC.
| CP02-31-002 | Iroquois Gas Transmission System, L.P.
C-2 | CP06-102-000, CP06-102-001 | Trunkline LNG Company, LLC.

Magalie R. Salas,
Secretary.

A free webcast of this event is available through http://www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E6-21962 Filed 12-21-06; 8:45 am]

BILLING CODE 6717-01-P